DEPARTMENT OF TRANSPORTATION

Federal Transit Administration

FTA Fiscal Year 2003 Apportionments, Allocations and Program Information

AGENCY: Federal Transit Administration (FTA), DOT.

ACTION: Notice.

SUMMARY: The Omnibus Appropriations Bill “Consolidated Appropriations Resolution, 2003”, (Pub. L. 108-7) was signed into law by President Bush on February 20, 2003, which includes the Department of Transportation and Related Agencies Appropriations for fiscal year 2003 (FY 2003 DOT Appropriations Act), and provides FY 2003 appropriations for the Federal Transit Administration (FTA) transit assistance programs. Based upon this Act, the Transportation Equity Act for the 21st Century (TEA-21), and 49 U.S.C. Chapter 53, this notice contains a comprehensive list of apportionments and allocations for transit programs.

In addition, prior year unobligated allocations for the section 5309 New Starts and Bus and Bus-Related Programs are listed. The FTA policy regarding pre-award authority to incur project costs, Letter of No Prejudice Policy, and other pertinent program information are provided.

FOR FURTHER INFORMATION CONTACT: The appropriate FTA Regional Administrator for grant-specific information and issues; Mary Martha Churchman, Director, Office of Resource Management and State Programs, (202) 366-2053, for general information about the Urbanized Area Formula Program, the Nonurbanized Area Formula Program, the Rural Transit Assistance Program, the Elderly and Persons with Disabilities Program, the Clean Fuels Formula Program, the Over-the-Road Bus Accessibility Program, the Capital Investment Program, or the Job Access and Reverse Commute Program; or Paul L. Verchinski, Chief, Statewide and Intermodal Planning Division, (202) 366-1626, for general information concerning the Metropolitan Planning Program and the Statewide Planning and Research Program; or Henry Nejako, Program Management Officer, Office of Research, Demonstration and Innovation, (202) 366-3765, for general information about the National Planning and Research Program.

SUPPLEMENTARY INFORMATION:

Table of Contents

I. Background

II. Overview

A. Fiscal Year 2003 Appropriations

B. TEA-21 Authorized Program Levels

C. Project Management Oversight

D. Leveraging Grant Funds

III. Fiscal Year 2003 Focus Areas

A. Transit Safety and Security

B. Ridership

C. 2000 Census Changes and Impact on Grantee Status as Designated Recipient

IV. Metropolitan Planning Program and Statewide Planning and Research Program

A. Metropolitan Planning Program

B. Statewide Planning and Research Program

C. FHWA Metropolitan Planning Program and State Planning and Research Program

D. Local Match Waiver for Specified Planning Activities

E. Planning Emphasis Areas for Fiscal Year 2003

F. Consolidated Planning Grants

G. FTA Review of Alternative Analysis

V. Urbanized Area Formula Program

A. Total Urbanized Area Formula Apportionments

B. Data Used for Urbanized Area Formula Apportionments

C. Urbanized Area Formula Apportionments to Governors

D. Transit Enhancements

E. Fiscal Year 2003 Operating Assistance

F. Designated Transportation Management Areas

G. Urbanized Area Formula Funds Used for Highway Purposes

H. National Transit Database Internet Reporting and Redesign Effort

VI. Nonurbanized Area Formula Program and Rural Transit Assistance Program

A. Nonurbanized Area Formula Program

B. Rural Transit Assistance Program

VII. Elderly and Persons With Disabilities Program

VIII. FHWA Surface Transportation Program and Congestion Mitigation and Air Quality Funds Used for Transit Purposes

A. Transfer Process

B. Matching Share for FHWA Transfers

IX. Capital Investment Program

A. Fixed Guideway Modernization

B. New Starts

C. Bus and Bus-Related

X. Job Access and Reverse Commute Program

XI. Over-the-Road Bus Accessibility Program

XII. Clean Fuels Formula Program

XIII. National Planning and Research Program

XIV. Unit Values of Data for Urbanized Area Formula Program, Nonurbanized Area Formula Program, and Fixed Guideway Modernization

XV. Period of Availability of Funds

XVI. Automatic Pre-Award Authority to Incur Project Costs

A. Policy

B. Conditions

C. Environmental, Planning, and Other Federal Requirements

D. Pre-award Authority for New Starts Projects

1. Preliminary Engineering and Final Design

2. Real Property Acquisition Activities

3. National Environmental Policy Act (NEPA) Activities

4. Other New Starts Activities Requiring LONP

XVII. Letter of no Prejudice (LONP) Policy

A. Policy

B. Conditions

C. Environmental, Planning, and Other Federal Requirements

D. Request for LONP

XVIII. FTA Web site on the Internet

XIX. FTA Fiscal Year 2003 Annual List of Certifications and Assurances

XX. Grant Application Procedures

Tables

1. FTA FY 2003 Appropriations for Grant Programs

2. FTA FY 2003 Metropolitan Planning Program and Statewide Planning and Research Program Apportionments

3. FHWA FY 2003 Estimated Metropolitan Planning (PL) Program Apportionments

4. FTA FY 2003 Urbanized Area Formula Apportionments

5. FTA FY 2003 Nonurbanized Area Formula Apportionments, and Rural Transit Assistance Program (RTAP) Allocations

6. FTA FY 2003 Elderly and Persons With Disabilities

Apportionments

7. FTA FY 2003 Fixed Guideway Modernization Apportionments

8. FTA FY 2003 New Starts Allocations

8A. FTA Prior Year Unobligated New Starts Allocations

9. FTA FY 2003 Bus and Bus-Related Allocations

9A. FTA Prior Year Unobligated Bus and Bus-Related Allocations

10. FTA FY 2003 National Planning and Research Program Allocations

11. FTA TEA-21 Authorization Levels (Guaranteed Funding Only)

11A. FTA TEA-21 Authorization Levels (Guaranteed and Non-Guaranteed Funding)

12. FTA FY 1998-2003 Apportionment Formula for Urbanized Area Formula Program

13. FTA FY 1998-2003 Fixed Guideway Modernization Program Apportionment Formula

14. FTA FY 2003 Formula Grant Apportionments Unit Values of Data

15. 2000 Census Urbanized Areas with Populations 200,000 or Greater Eligible to use FY 2003 Section 5307 Funds for Operating Assistance

I. Background

Metropolitan Planning funds are apportioned by statutory formula to the States for allocation to Metropolitan Planning Organizations (MPOs) in urbanized areas or portions thereof to provide funds for their Unified Planning Work Programs. Statewide Planning and Research funds are apportioned to States by statutory formula to provide funds for their Statewide Planning and Research Programs. Urbanized Area Formula Program funds are apportioned by statutory formula to urbanized areas and to Governors to provide capital, operating and planning assistance in urbanized areas. Nonurbanized Area Formula Program funds are apportioned by statutory formula to Governors for capital, operating and administrative assistance in nonurbanized areas. Elderly and Persons with Disabilities Program funds are apportioned by statutory formula to Governors to provide capital assistance to organizations providing transportation service for the elderly and persons with disabilities. Fixed Guideway Modernization funds are apportioned by statutory formula to specified urbanized areas for capital improvements in rail and other fixed guideways. New Starts identified in the FY 2003 DOT Appropriations Act and Bus and Bus-Related Allocations identified in the Conference Report accompanying the Act are included in this notice. FTA will honor those designations included in report language to the extent that the projects meet the statutory intent of the specific program.

II. Overview

A. Fiscal Year 2003 Appropriations

The FY 2003 funding amounts for FTA programs are displayed in Table 1. The amounts have been adjusted, from the FY 2003 enacted funding levels, to reflect an across-the-board .65 percent reduction proportionately applied to the discretionary budget authority and obligation limitation, and to each program, project and activity, as directed under section 601 of Title VI of the Consolidated Appropriations Resolution, 2003, along with transferred and reallocated resources. The following text provides a narrative explanation of the funding levels and other factors affecting the apportionments and allocations.

B. TEA-21 Authorized Program Levels

TEA-21 provides a combination of trust and general fund authorizations that total $8.194 billion for the FY 2003 FTA program. Of this amount, $7.226 billion was guaranteed under the discretionary spending cap and was enacted under the FY 2003 DOT Appropriations Act. However, after applying the across-the-board .65 percent reduction, as directed by section 601 of Title IV of the Consolidated Appropriations Resolution, 2003, new funding for FTA programs is $7.179 billion. See Table 11 for fiscal years 1998-2003 guaranteed funding levels by program and Table 11A for the total of guaranteed and non-guaranteed levels by program.

C. Project Management Oversight

Section 5327 of Title 49 U.S.C., permits the Secretary of Transportation to use up to one-half percent of the funds made available under the Urbanized Area Formula Program and the Nonurbanized Area Formula Program, and three-quarters percent of funds made available under the Capital Investment Program to contract with any person to oversee the construction of any major project under these statutory programs; to conduct safety, procurement, management and financial reviews and audits; and to provide technical assistance to correct deficiencies identified in compliance reviews and audits. Language in the 2002 DOT Appropriations Act increased the amount made available under the Capital Investment Program for oversight activities to one percent.

D. Leveraging Grant Funds

Public transportation grantees are reminded that with interest rates at currently low levels it may be cost-effective to leverage their projected grant receipts, and thereby accelerate the acquisition of needed rolling stock or completion of essential infrastructure. FTA encourages grant recipients to examine all leveraging options at their disposal, including the use of grant anticipation notes (GAN) secured with Formula Capital, Fixed Guideway Modernization, and New Starts funds. To date, over $1.7 billion in grant anticipation bonds have been issued, allowing major projects to be completed early and at lower cost. FTA will provide information and other assistance to grantees that wish to examine financing options during their project development process.

For additional information, contact Paul L. Marx, Office of Policy Development, at (202) 366-1675.

III. Fiscal Year 2003 Focus Areas

FTA draws attention to the following areas of particular interest to grantees in FY 2003 relative to the FTA programs.

A. Transit Safety and Security

Since September 11th, the Federal Transit Administration (FTA) has undertaken a series of major steps to help prepare the transit industry to counter terrorist threats. FTA has provided direct assistance to transit agencies through on-site readiness assessments, technical assistance teams, regional forums for emergency responders, grants for drills, training, and accelerating technology and research projects. From this initial work, it is clear that it is critical to integrate security throughout every aspect of transit programs, operations, and infrastructure.

Although the transit industry has made great strides in strengthening security and emergency preparedness, there is much more to do. The most important investments for transit agencies to improve security elements are in the areas of employee training, public awareness, and emergency response planning. Detailed information about these three areas and other important actions can be found in FTA's list of Top 20 Security Program Action Items for transit agencies. These 20 action items are based on good security practices identified through FTA's Security Assessments and the technical assistance program. The Top 20 Security Program Action Items can be found on FTA's Web site at [http://transit-safety.volpe.dot.gov/security/SecurityInitiatives/Top20/default.asp]. FTA will work with transit agencies to assist you as you incorporate these practices into your programs.

B. Ridership

FTA's FY 2003 strategic business plan establishes FTA's core values and identifies a number of strategic goals for sustaining these values over the next three years. Specifically, FTA seeks to deliver products and services that are valued by its customers and to assist transit agencies in better meeting the needs of their customers. Increasing transit ridership is a key measure of success in achieving this objective. FTA has further identified a goal of achieving an average 2.5 percent increase in the number of transit passenger-miles traveled per market (controlling for differences in employment levels) this fiscal year. FTA is in the process of identifying a range of research, guidance, and other technical assistance to support State and local transit efforts to increase ridership. FTA encourages all transit agencies to focus attention on ways to increase transit ridership, and will be issuing further information about the FTA ridership initiative throughout FY 2003.

C. 2000 Census Changes and Impact on Grantee Status as Designated Recipient

The Census Bureau released the 2000 Census urbanized area designations on May 1, 2002, and provided corrections/changes to the list of designated areas in subsequent Federal Register Notices, dated August 23 and November 20, 2002. FTA used this 2000 Census population data and information for the first time to apportion transit funds in FY 2003, which accounts for a number of changes from FY 2002 apportionments.

In the 2000 Census, nonurbanized population decreased by three percent to 89.6 million from the 1990 Census, and elderly population increased by 18 percent to 35.4 million. Four hundred sixty-five urbanized areas were designated, which is 59 more than the 406 designated in the 1990 Census. Seventy-six are newly qualified urbanized areas, and more than 50 urbanized areas crossed the 200,000 population threshold, as a result of growth; the merger of two small urbanized areas; or the merger of one or more small urbanized areas into an existing urbanized area with population over 200,000. In addition, 14 urbanized areas were formed from splitting existing urbanized areas, more than 70 urbanized areas had name or description changes, which in some cases includes the addition of a new State in the urbanized area description/geographical boundary, and two urbanized areas (Montgomery, AL and Lorain-Elyria, OH) saw their populations decrease to less than 200,000. 2000 Census information and FTA analysis of the changes may be found on the FTA Web site at [http://www.fta.dot.gov/library/planning/census/censusinfo.html].

The large number of urbanized areas affected by 2000 Census changes and the assorted types of changes experienced require that many areas designate or change their “Designated Recipient.” In order for FTA to award a grant to an urbanized area as part of its Urbanized Area Formula Program (Title 49 U.S.C. section 5307), a grant recipient must be a “Designated Recipient” for that urbanized area or must be a public agency authorized by the Designated Recipient to apply for grants. Documentation for new or changed Designated Recipients in areas over 200,000 in population shall include the following:

1. A letter expressing the concurrence of the Governor or of another state agency in which the Governor's authority to concur in designations of recipients has been delegated;

2. Concurrence by the publicly-owned operators of mass transportation servicing the urbanized area of the Designated Recipient(s);

3. An appropriately certified resolution of the policy-making body of the Metropolitan Planning Organization (MPO) concurring in the Designated Recipient(s); and

4. For each Designated Recipient, an opinion of counsel certifying to the entity's legal capacity to perform the functions of a Designated Recipient.

For urbanized areas greater than 50,000 but under 200,000 in population, the Governor of each State is the Designated Recipient. The Governor may:

1. Retain Designated Recipient status himself/herself. No documentation needs to be submitted to support this action; or

2. Designate one or more local Designated Recipients for each urbanized area under 200,000 in population. Such designation must be documented by letter from the Governor naming the local Designated Recipient and by an opinion of counsel for each such Designated Recipient certifying its legal capacity to perform the functions of a Designated Recipient.

Documentation relative to Designated Recipients or public agencies authorized by the Designated Recipient to apply for grants should be forwarded to the appropriate FTA Regional Office. For further information contact the appropriate FTA Regional Office, or Ken Johnson, FTA Office of Resource Management and State Programs, at (202) 366-2053.

IV. Metropolitan Planning Program and State Planning and Research Program

A. Metropolitan Planning Program

Funding made available for the Metropolitan Planning Program (49 U.S.C. 5303) by the FY 2003 DOT Appropriations Act is $59,993,094 after application of the across-the-board .65 percent reduction. The FY 2003 Metropolitan Planning Program apportionment to States for MPOs' use in urbanized areas totals $60,443,434. This amount includes $59,993,094 in FY 2003 funds, and $450,340 in prior year funds available for reapportionment under this program. A basic allocation of 80 percent of this amount ($48,354,747) is distributed to the States based on the State's urbanized area population as defined by the U.S. Census Bureau for subsequent State distribution to each urbanized area, or parts thereof, within each State. A supplemental allocation of the remaining 20 percent ($12,088,687) is also provided to the States based on an FTA administrative formula to address planning needs in the larger, more complex urbanized areas. Table 2 contains the State apportionments for the combined basic and supplemental allocations.

Each State, in cooperation with the MPOs, must develop an allocation formula for the combined apportionment, which distributes these funds to MPOs representing urbanized areas, or parts thereof, within the State. States must reaffirm these in-State formulas or develop new ones, which then must be submitted to the FTA Regional Office for approval before these funds area distributed.

As noted in section III.C above, 2000 Census urbanized area designations are available in Federal Register Notices issued by the Census Bureau and may be accessed at [http://www.fta.dot.gov/library/legal/federalregister/2002/index.html] on the FTA Web site. FTA has posted on its Web site a comparison of FY 2003 guaranteed funding levels based on 2000 Census and based on the 1990 census information for each State at [http://www.fta.dot.gov/library/planning/census/comp/t2.html] and a comparison of the amounts actually apportioned for fiscal year 2002 using both the 1990 Census and the 2000 Census at [http://www.fta.dot.gov/library/planning/census/comp/t1.html]. This information should be utilized by each state when reaffirming or revising in-state formulas.

B. Statewide Planning and Research Program

Funding made available for the Statewide Planning and Research Program (49 U.S.C. 5313(b)) by the FY 2003 DOT Appropriations Act is $12,532,406 after application of the across-the-board .65 percent reduction. The FY 2003 apportionment for the Statewide Planning and Research Program (SPRP) totals $12,643,295. This amount includes $12,532,406 in FY 2003 funds, and $110,889 in prior year funds available for reapportionment under this program. Final State apportionments for this program are also contained in Table 2. These funds may be used for a variety of purposes such as planning, technical studies and assistance, demonstrations, management training, and cooperative research. In addition, a State may authorize a portion of these funds to be used to supplement metropolitan planning funds allocated by the State to its urbanized areas, as the State deems appropriate.

C. FHWA Metropolitan Planning Program and State Planning and Research Program

For informational purposes, the estimated FY 2003 apportionments for the FHWA Metropolitan Planning Program (PL) are contained in Table 3. Actual apportionments for the FY 2003 FHWA State Planning and Research Program (SPRP) were not available at the time of publication of this notice.

D. Local Match Waiver for Specified Planning Activities

Job Access and Reverse Commute Planning. Federal, State and local welfare reform initiatives may require the development of new and innovative public and other transportation services to ensure that former welfare recipients have adequate mobility for reaching employment opportunities. In recognition of the key role that transportation plays in ensuring the success of welfare-to-work initiatives, FTA and FHWA permit the waiver of the local match requirement for job access and reverse commute planning activities undertaken with both FTA and FHWA Metropolitan Planning Program and State Planning and Research Program funds. FTA and FHWA will support requests for waivers when they are included in Metropolitan Unified Planning Work Programs and State Planning and Research Programs and meet all other requirements.

E. Planning Emphasis Areas for Fiscal Year 2003

The FTA and FHWA identify Planning Emphasis Areas (PEAs) annually to promote priority themes for consideration, as appropriate, in metropolitan and statewide transportation planning processes. To support this, FTA and FHWA will prepare an inventory of current practice, guidance and training in those areas. Opportunities for exchanging ideas and experiences on innovative practices in these topic areas also will be provided throughout the year. For FY 2003, five key planning themes have been identified: (1) Consideration of safety and security in the transportation planning process; (2) integration of planning and environmental processes; (3) consideration of management and operations within planning processes; (4) State DOT consultation with non-metropolitan local officials; and (5) enhancing the technical capacity of planning processes.

1. Safety and Security in the Transportation Planning Process. TEA-21 emphasizes the safety and security of transportation systems as a national priority and calls for transportation projects and strategies that “increase the safety and security of transportation systems.” This entails integration of safety and facility security into all stages of the transportation planning process.

FTA and FHWA are working together to advance the state-of-practice in addressing safety and security in the metropolitan and statewide planning process through workshops and case studies. A report prepared by the Transportation Research Board (TRB), Transportation Research Circular E-C02, “Safety-Conscious Planning,” January 2001, describes the issues and recommendations identified at a Safety in Planning workshop held earlier. The report is available on the TRB Web site at [http://www.nas.edu/trb]. Also, the Institute of Transportation Engineers (ITE) has prepared a discussion paper on the topic, entitled “The Development of the Safer Network Transportation Planning Process,” which is posted to their Web site at [http://www.ite.org].

2. Integrated Planning and Environmental Processes. TEA-21 mandated the elimination of the Major Investment Study as a stand-alone requirement, while integrating the concept within the planning and project development/environmental review processes. A training course entitled “Linking Planning and NEPA” is being developed and will be made available at the National Transit Institute Web site, [http://www.ntionline.com].

3. Consideration of Management and Operations within Planning Processes. TEA-21 challenges FHWA and FTA to move beyond traditional capital programs for improving the movement of people and goods—focusing on the need to improve the way transportation systems are managed and operated. FTA and FHWA have convened a working group and have commissioned discussion papers on the topic. This information is available at [http://plan2op.fhwa.dot.gov].

4. State DOT Consultation With Non-Metropolitan Local Officials. On January 23, 2003, the FTA and FHWA issued a final Rule on consultation, which can be accessed at [http://www.fta.dot.gov/library/legal/federalregister/2003/fr12303.html]. This final rule amends the 1993 Joint FTA/FHWA Planning regulation published in the Federal Register, Volume 58, No. 207, on October 28, 1993. Consultation is a vital issue within the transportation planning process. Each State shall have a documented process(es) that implements consultation with non-metropolitan local officials in the statewide planning process and development of the statewide transportation improvement program by February 24, 2004. The FTA and FHWA will work with each State to help facilitate development of the documented process(es), but will not review or approve the documented process(es). However, the FTA and FHWA in the State Planning Finding will comment on progress toward accomplishing the documented process(es) and its implementation. Since consultation is a vital issue, each state shall review its documented process and solicit comments regarding the effectiveness of its consultation process within two years of adopting its documented process, and thereafter, at least once every five years.

5. Enhancing the Technical Capacity of Planning Processes. Reliable information on current and projected usage and performance of transportation systems is critical to the ability of planning processes to supply credible information to decision-makers to support preparation of plans and programs that respond to their localities' unique needs and policy issues. To ensure the reliability of usage and performance data, as well as the responsiveness of policy forecasting tools, an evaluation is needed of the quality of information provided by the technical tools, data sources, and forecasting models, as well as the expertise of staff to ensure its adequacy to support decision-making. If this expertise is found to be lacking, the responsible agencies within metropolitan and statewide planning processes are encouraged to devote appropriate resources to enhance and maintain their technical capacity.

The metropolitan and statewide transportation planning processes have become critical tools for responding to increasingly complex issues at the State and local levels. Many of these issues are encompassed in previously listed planning emphasis areas (e.g., integrated planning and environmental processes, management and operations, analytical tools and methods) and include much more. It is essential that FTA and FHWA provide technical assistance, training, and information to our customers to further enhance the skills and capabilities they utilize to conduct effective transportation planning processes. The FTA and FHWA have created the Planning Capacity Building (PCB) Program, which combines what previously were separate programs focused on planning processes in metropolitan, statewide and rural areas. The PCB is a tool to disseminate and coordinate information, training, and foster a dialogue for the exchange of ideas. More information on the PCB program can be found at [http://www.mcb.fhwa.dot.gov]. (Note—As of this writing, a merged Web site focused on metropolitan, statewide, and rural issues is under development.)

For further information on these PEAs, contact Candace Noonan, FTA Office of Planning, (202) 366-1648, or John Humeston, FHWA Office of Planning, (202) 366-1862.

F. Consolidated Planning Grants

Since FY 1997, FTA and FHWA have offered States the option of participating in a pilot Consolidated Planning Grant (CPG) program. Information concerning participation in the CPG program can be found on the FTA Web site at [http://www.fta.dot.gov/office/public/cpg.htm]. For further information on participating in the CPG Pilot, contact Candace Noonan, Office of Planning, FTA, at (202) 366-1648 or Anthony Solury, Office of Planning and Environment, FHWA, at (202) 366-5003.

G. FTA Review of Alternative Analysis

FTA has long had substantive involvement in the evaluation of alternatives performed to comply with the National Environmental Policy Act (NEPA). FTA would like to extend this interest to comparable planning-level alternatives analysis, and requests that local agencies that intend to conduct such a study prior to NEPA review notify their FTA Regional Office in writing if such a study may result in a transit project being proposed for funding under the Section 5309 New Starts program. FTA further requests the opportunity to review any NEPA or pre-NEPA alternatives analysis scope of work, purpose and need, description of alternatives, and technical methodologies and results as they are developed. FTA desires to become involved in these local studies for three reasons: (1) To assist local agencies in addressing technical and procedural issues early in the study process, rather than at the end when it may be too late to solve them efficiently; (2) to ensure that FTA requirements for alternatives analysis are met (this includes the selection of a New Starts Baseline alternative and documentation of planning-level information needed to perform a Before and After Study, should the resulting project eventually receive a Full Funding Grant Agreement); and (3) to gain sufficient understanding of the resulting project to support FTA's decision to advance it into preliminary engineering (PE) and, later, final design. If the alternatives analysis is done outside of NEPA, FTA's review is further intended to help ensure that its results, including any elimination of alternatives from further consideration, are adequately supported and will stand up when the NEPA review is initiated.

Failure to provide FTA with an opportunity to participate in the alternatives analysis could result in additional study effort necessary to ensure consistency with FTA policy and good planning practices. Such additional work could further result in significant delays in the processing of the request to enter into PE.

In February 2003, FTA posted under the New Starts section of its Web site [http://www.fta.dot.gov/library/policy/ns/ns.htm] revised preliminary guidance on advancing fixed guideway transit investments through planning and project development. This guidance provides additional detail on FTA's expectations for alternatives analysis and its role in the study process. For additional information, contact Sean Libberton, FTA Office of Planning, at (202) 366-2360.

V. Urbanized Area Formula Program

A. Total Urbanized Area Formula Apportionments

The amount made available to the Urbanized Area Formula Program (49 U.S.C. 5307) by the FY 2003 DOT Appropriations Act is $3,423,540,998, after application of the across-the-board .65 percent reduction. In addition, $5,479,136 in prior year funds became available for reapportionment under the Urbanized Area Formula Program as provided by 49 U.S.C. 5336(i).

After reserving $17,117,705 for oversight, the amount of FY 2003 funds available for apportionment is $3,406,423,293. The funds to be reapportioned, described in the previous paragraph, are then added and increase the total amount apportioned for this program to $3,411,902,429. Table 4 displays the amounts apportioned under the Urbanized Area Formula Program. Table 12 contains the apportionment formula for the Urbanized Area Formula Program.

An additional $4,818,425 is made available for the Alaska Railroad for improvements to its passenger operations, after application of the across-the-board .65 percent reduction. After reserving $24,092 for oversight, $4,794,333 is available for the Alaska Railroad.

B. Data Used for Urbanized Area Formula Apportionments

Data from the 2001 National Transit Database (NTD) Report Year were used to calculate the FY 2003 Urbanized Area Formula apportionments for urbanized areas 200,000 in population and over. 2000 Census Population and population density data are also used in calculating apportionments under the Urbanized Area Formula Program.

C. Urbanized Area Formula Apportionments to Governors

The total Urbanized Area Formula apportionment to the Governor for use in areas under 200,000 in population for each State is shown in Table 4. This table also contains the apportionment amount attributable to each urbanized area within the State. The Governor may determine the allocation of funds among the urbanized areas under 200,000 in population with the following exception: as further discussed in Section F below, funds attributed to an urbanized area under 200,000 in population, located within the planning boundaries of a Transportation Management Area, must be obligated in that small urbanized area.

D. Transit Enhancements

One percent of the Urbanized Area Formula Program apportionment in each urbanized area with a population of 200,000 and over must be made available only for transit enhancements. Table 4 shows the amount set aside for enhancements in these areas.

The term “transit enhancement” includes projects or project elements that are designed to enhance mass transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one percent will be allotted to transit projects. The one percent minimum requirement does not preclude more than one percent being expended in an urbanized area for transit enhancements. However, items that are only eligible as enhancements—in particular, operating costs for historic facilities—may be assisted only within the one percent funding level.

The recipient must submit a report to the appropriate FTA Regional Office listing the projects or elements of projects carried out with those funds during the previous fiscal year and the amount awarded. The report must be submitted with the Federal fiscal year's final quarterly progress report in TEAM-Web. The report should include the following elements: (a) Grantee name, (b) urbanized area name and number, (c) FTA project number, (d) transit enhancement category, (e) brief description of enhancement and progress towards project implementation, (f) activity line item code from the approved budget, and (g) amount awarded by FTA for the enhancement.

E. Fiscal Year 2003 Operating Assistance

In general, FY 2003 funding for operating assistance is available only to urbanized areas with populations under 200,000. For these areas, there is no limitation on the amount of the State apportionment that may be used for operating assistance, and the Federal/local share ratio is 50/50. TEA-21 provides an exception to the restriction on operating assistance in areas over 200,000 in population; eligible areas have already been identified and notified.

Pub. L. 107-232, signed by the President on October 1, 2002, allows transit systems in urbanized areas that, for the first time, exceeded 200,000 in population according to the 2000 Census to use section 5307 funds for operating assistance. A list of the eligible 2000 Census urbanized areas (with populations 200,000 or greater) to which Pub. L. 107-232 applies and that may use FY 2003 funds for operating assistance is provided in Table 15. The listing also shows the maximum amount of the area's FY 2003 apportionment that may be used for operating assistance (the FY 2003 Operating Limitation). The use of the urbanized area funds for operating assistance by these areas is restricted to projects carried out within the geographical or service area boundary of the affected 1990 census small (less than 200,000 population) urbanized area.

F. Designated Transportation Management Areas

All 2000 Census urbanized areas having a population of at least 200,000 have been designated as Transportation Management Areas (TMAs), in accordance with 49 U.S.C. 5305. In addition, the Santa Barbara, CA urbanized area, which did not meet the population threshold requirement for TMA status with respect to 2000 Census, retained its previously granted TMA status based on Gubernatorial request. These TMA designations were formally made in the FTA Notices at 67 FR 45173 et seq. (July 8, 2002) and 67 FR 62285 et seq. (October 4, 2002).

Guidance for setting the boundaries of TMAs is contained in the joint transportation planning regulations codified at 23 CFR part 450 and 49 CFR part 613. In some cases, the TMA planning boundaries, which have been established by the MPO for the designated TMA, also include one or more urbanized areas less than 200,000 in population. Where this situation exists, the discretion of the Governor to allocate Urbanized Area Formula program “Governor's Apportionment” funds for urbanized areas with less than 200,000 in population is restricted, i.e., the Governor only has discretion to allocate Governor's Apportionment funds attributable to areas that are outside of designated TMA planning boundaries.

If any additional small urbanized areas—within the planning boundaries of a TMA—are identified, notification should be made in writing to the Associate Administrator for Program Management, Federal Transit Administration, 400 Seventh Street, SW, Washington, DC 20590, no later than July 1 of each fiscal year. FTA has revised and provided below the list of previously identified urbanized areas with population less than 200,000 included within the planning boundaries of designated TMAs, based on 2000 Census urbanized area designations. With respect to Norman, OK, Section 336 of FY 2003 DOT Appropriations Act directs that the city of Norman, OK shall be considered part of the Oklahoma City TMA.

Designated TMA | Small urbanized area included in TMA boundary
Houston, TX | Galveston, TX; Texas City, TX
Orlando, FL | Kissimmee, FL
Palm Bay-Melbourne, FL | Titusville, FL
Philadelphia, PA-NJ-DENJ-MD | Pottstown, PA
Pittsburgh, PA | Monessen, PA; Weirton, WV—Steubenville, OH-PA (PA portion)
Seattle, WA | Bremerton, WA
Washington, DCNJ-VANJ-MD | Frederick, MD
Oklahoma City, OK | Norman, Oklahoma

G. Urbanized Area Formula Funds Used for Highway Purposes

Urbanized Area Formula funds apportioned to a TMA can be transferred to FHWA and made available for highway projects if the following three conditions are met: (1) Such use must be approved by the MPO in writing after appropriate notice and opportunity for comment and appeal are provided to affected transit providers; (2) in the determination of the Secretary, such funds are not needed for investments required by the Americans with Disabilities Act of 1990 (ADA); and (3) the MPO determines that local transit needs are being addressed.

Urbanized Area Formula funds that are designated for highway projects will be transferred to and administered by FHWA. The MPO should notify FTA of its intent to use FTA funds for highway purposes, as prescribed in section VIII.A., below.

H. National Transit Database (NTD) Internet Reporting and Redesign Effort

The National Transit Database (NTD) is FTA's repository for nationwide statistics about the transit industry, including safety and security data. The new, redesigned NTD reporting system is on the Internet and in operation. The new reporting software and statistical data reports can be found on FTA's NTD web site at [http://www.ntdprogram.com]. More than 600 FTA grantees have filed reports to FTA via the Internet on the new system. To meet Government Performance and Results Act deadlines, NTD data is available on a timelier basis. The new monthly reporting of safety and ridership data provides the NTD with current data. In addition, thousands of incident and summary safety and security reports will be submitted to FTA on the new NTD system. The new, detailed safety data will help FTA and the transit industry fashion countermeasures to recurring safety problems. The revised NTD includes several valuable new features like the new reporting software, which includes enhanced pre-submission validation routines. Reporters can save time by pre-loading certain large data fields from last year. The new Oracle database and reports aid researchers.

FTA grantees receive Urbanized Area Formula and Fixed Guideway Modernization apportionments based, in part, on the data they submit to the NTD. NTD data is also summarized and used to report to Congress on the condition, performance, and safety of the transit industry, and associated costs. The Transportation Security Administration is already using security reports from the NTD. In addition, these data are used in the assessment of FTA goals.

This year, the voluntary reporting of rural transit data by State DOTs is being tested. Work also continues on the collection of data on the condition of the capital infrastructure of transit. A voluntary test version of the asset condition module was put on-line and was well accepted, providing an excellent inventory and assessment of tunnels, bridges, track, stations, bus maintenance facilities, and other assets.

VI. Nonurbanized Area Formula Program and Rural Transit Assistance Program

A. Nonurbanized Area Formula Program

The amount made available for the Nonurbanized Area Formula Program (49 U.S.C. 5311) by the FY 2003 DOT Appropriations Act is $239,043,694, after application of the across-the-board .65 percent reduction. The FY 2003 Nonurbanized Area Formula apportionments to the States total $238,954,559 and are displayed in Table 5. Of the $239,043,694 available, $1,195,218 was reserved for oversight. The funds apportioned include $1,106,083 in prior year funds available for reapportionment.

The Nonurbanized Area Formula Program provides capital, operating and administrative assistance for areas under 50,000 in population. Each State must spend no less than 15 percent of its FY 2003 Nonurbanized Area Formula apportionment for the development and support of intercity bus transportation, unless the Governor certifies to the Secretary that the intercity bus service needs of the State are being adequately met.

B. Rural Transit Assistance Program

Funding made available for the Rural Transit Assistance Program (RTAP) (49 U.S.C. 5311(b)(2)) by the FY 2003 DOT Appropriations Act is $5,215,875, after application of the across-the-board .65 percent reduction. The FY 2003 RTAP allocations to the States total $5,216,875 and are displayed in Table 5. This amount includes $1,000 in prior year funds available for reapportionment.

The funds are allocated to the States to undertake research, training, technical assistance, and other support services to meet the needs of transit operators in nonurbanized areas. These funds are to be used in conjunction with the States' administration of the Nonurbanized Area Formula Program.

FTA also supports RTAP activities at the national level within the National Planning and Research Program (NPRP). The National RTAP projects support the States in their use of the formula allocations for training and technical assistance. Congress did not designate any funds for the National RTAP among the NPRP allocations in the Conference Report accompanying the FY 2003 DOT Appropriations Act. FTA will, however, include the National RTAP among priority projects to be funded from available NPRP funds. During FY 2002, FTA conducted a competitive selection and chose the American Public Works Association, in consortium with the Community Transportation Association of America, to provide National RTAP services for the next five years.

VII. Elderly and Persons With Disabilities Program

The amount made available for the Elderly and Persons with Disabilities Program (49 U.S.C. 5310) by the FY 2003 DOT Appropriations Act is $90,063,558, after application of the across-the-board .65 percent reduction. The FY 2003 Elderly and Persons with Disabilities Program apportionments to the States total $90,166,393 and are displayed in Table 6. The funds apportioned include $102,835 in prior year funds available for reapportionment.

The formula for apportioning these funds uses Census population data for persons aged 65 and over, and for persons with disabilities. The funds provide capital assistance for transportation for elderly persons and persons with disabilities. Eligible capital expenses may include, at the option of the recipient, the acquisition of transportation services by a contract, lease, or other arrangement.

While the assistance is intended primarily for private non-profit organizations, public bodies that coordinate services for the elderly and persons with disabilities, or any public body that certifies to the State that there are no non-profit organizations in the area that are readily available to carry out the service, may receive these funds.

These funds may be transferred by the Governor to supplement Urbanized Area Formula or Nonurbanized Area Formula capital funds during the last 90 days of the fiscal year.

VIII. FHWA Surface Transportation Program and Congestion Mitigation and Air Quality Funds Used for Transit Purposes

A. Transfer Process

The process for transferring flexible formula funds between FTA and FHWA programs is described below. For information on the transfer of FHWA funds to FTA planning programs contact the FTA/FHWA staff identified in section IV.F, above.

Transfer from FHWA to FTA. FHWA funds designated for use in transit capital projects must be derived from the metropolitan and statewide planning and programming process, and must be included in an approved Statewide Transportation Improvement Program (STIP) before the funds can be transferred. The State DOT requests, by letter, the transfer of highway funds for a transit project to the FHWA Division Office. The letter should specify the project, amount to be transferred, apportionment year, State, Federal aid apportionment category i.e., Surface Transportation Program (STP), Congestion Mitigation and Air Quality (CMAQ), Interstate Substitute, or congressional earmark), and a description of the project as contained in the STIP.

The FHWA Division Office confirms that the apportionment amount is available for transfer and concurs in the transfer by letter to the State DOT and FTA. The FHWA Office of Budget and Finance then transfers obligation authority and an equal amount of cash to FTA. All FHWA CMAQ, STP, and congressional earmarked funds for transit projects in the Appropriations Act or Conference Report will be transferred to one of the three FTA formula programs (i.e., Urbanized Area Formula (section 5307), Nonurbanized Area Formula (section 5311) or Elderly and Persons with Disabilities (section 5310).

The FTA grantee's application for the project must specify which program the funds will be used for and the application should be prepared in accordance with the requirements and procedures governing that program. Upon review and approval of the grantee's application, FTA obligates funds for the project.

Transferred funds are treated as FTA formula funds, but are assigned a distinct identifying code for tracking purposes. The funds may be used for any capital purpose eligible under the FTA formula program to which they are transferred and in the case of CMAQ for certain operating costs. FTA and FHWA have issued guidance on project eligibility under the CMAQ program in a Notice at 65 FR 9040 et seq. (February 23, 2000). In accordance with 23 U.S.C. 104(k), all FTA requirements are applicable to transferred funds except local share—FHWA local share requirements apply. Transferred funds should be combined with regular FTA funds in a single annual grant application.

Transfers From FTA to FHWA. The Metropolitan Planning Organization (MPO) submits a request to the FTA Regional Office for a transfer of FTA section 5307 formula funds (apportioned to an urbanized area 200,000 and over in population) to FHWA based on approved use of the funds for highway purposes, as contained in the Governor's approved State Transportation Improvement Program. The MPO must certify that: (1) The funds are not needed for capital investments required by the Americans with Disabilities Act; (2) notice and opportunity for comment and appeal has been provided to affected transit providers; and (3) local funds used for non-Federal match are eligible to provide assistance for either highway or transit projects. The FTA Regional Administrator reviews and concurs in the request, then forwards the approval to FTA Headquarters, where a reduction is made to the grantee's urbanized area formula apportionment and FTA's National Operating Budget in TEAM-Web, equal to the dollar amount being transferred to FHWA.

For information regarding these procedures, please contact Kristen D. Clarke, FTA Budget Office, at (202) 366-1686; or Richard Meehleib, FHWA Finance Division, at (202) 366-2869.

B. Matching Share for FHWA Transfers

The provisions of Title 23 U.S.C., regarding the non-Federal share apply to Title 23 funds used for transit projects. Thus, FHWA funds transferred to FTA retain the same matching share that the funds would have if used for highway purposes and administered by FHWA.

There are three instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Secondly, commuter carpooling and vanpooling projects and transit safety projects using FHWA transfers administered by FTA may retain the same 100 percent Federal share that would be allowed for ride-sharing or safety projects administered by the FHWA.

The third instance includes the 100 percent Federal safety projects; however, these are subject to a nationwide 10 percent program limitation.

IX. Capital Investment Program (49 U.S.C. 5309)

A. Fixed Guideway Modernization

The formula for allocating the Fixed Guideway Modernization funds contains seven tiers. The apportionment of funding under the first four tiers, through FY 2003, is based on data used to apportion the funding in FY 1997. Funding under the last three tiers is apportioned based on the latest available route miles and revenue vehicle miles on segments at least seven years old, as reported to the NTD.

Table 7 displays the FY 2003 Fixed Guideway Modernization apportionments. Fixed Guideway Modernization funds apportioned for this section must be used for capital projects to maintain, modernize, or improve fixed guideway systems.

All urbanized areas with fixed guideway systems that are at least seven years old are eligible to receive Fixed Guideway Modernization funds. A request for the start-up service dates for fixed guideways has been incorporated into the NTD reporting system to ensure that all eligible fixed guideway data is included in the calculation of the apportionments. A threshold level of more than one mile of fixed guideway is required to receive Fixed Guideway Modernization funds. Therefore, urbanized areas reporting one mile or less of fixed guideway mileage under the NTD are not included.

The FY 2003 DOT Appropriations Act makes $1,206,506,400 available for Fixed Guideway Modernization, after application of the across-the-board .65 percent reduction. An amount of $12,065,064 was then reserved for oversight, leaving $1,194,441,336 available for apportionment to eligible urbanized areas. In addition, prior year funds available for reapportionment in the amount of $84,033 are added and increase the total amount apportioned to $1,194,525,369 under Fixed Guideway Modernization. Table 13 contains information regarding the Fixed Guideway Modernization apportionment formula.

B. New Starts

The amount made available for New Starts by the FY 2003 DOT Appropriations Act is $1,252,229,548, after application of the across-the-board .65 percent reduction. This amount includes $45 million (adjusted for the .65 percent reduction) in FY 2003 funds transferred from the Job Access and Reverse Commute Program (JARC) and additional transfers of $1,015,648 from unobligated 1999 JARC funds, in accordance with language in the FY 2003 DOT Appropriations Act and accompanying Conference Report. Of the $1,252,229,548 made available $12,522,295 was reserved for oversight activities, leaving $1,239,707,253 available for allocations to projects. The final allocation for each New Starts projects is listed in Table 8.

Prior year unobligated allocations for New Starts in the amount of $483,496,983 remain available for obligation in FY 2003. This amount includes $464,241,119 in fiscal years 2001 and 2002 unobligated allocations, and $19,255,864 for fiscal years 1999 and 2000 unobligated allocations that are extended in the FY 2003 Conference Report. These unobligated amounts are displayed in Table 8A.

Capital Investment Program funds for New Starts projects identified as having been extended in the FY 2003 Conference Report accompanying the FY 2003 DOT Appropriations Act will lapse September 30, 2003. A list of the extended projects and the amount that remains unobligated as of September 30, 2002, is appended to Table 8A for ready reference.

C. Bus and Bus-Related

The FY 2003 DOT Appropriations Act provides $603,253,200 for the purchase of buses, bus-related equipment and paratransit vehicles, and for the construction of bus-related facilities, after application of the across-the-board .65 percent reduction.

TEA-21 established a $100 million Clean Fuels Formula Program under 49 U.S.C. 5308 (described in section XII below). The program is authorized to be funded with $50 million from the Bus and Bus-Related category of the Capital Investment Program and $50 million from the Formula Program. However, the FY 2003 DOT Appropriations Act directs FTA to transfer the formula portion to, and merge it with, funding provided for the Bus and Bus-Related category of the Capital Investment Program. The .65 percent across-the-board reduction has been applied to the $50 million in transferred funds. Thus, $652,928,200 of funds appropriated in FY 2003 is available for funding the Bus and Bus-Related category of the Capital Investment Program. In addition, Congress directed that funds made available for bus and bus facilities include $4,567,156 reallocated from projects in previous appropriations Acts, which increases the total amount made available to $657,495,356. The reallocated funds are derived from unobligated balances for the following projects: Essex Junction, Vermont multimodal station, $490,547; Towamencin Township, Pennsylvania intermodal center (1999), $1,488,750; Towamencin Township, Pennsylvania intermodal center (2000), $1,471,643; Folsom, California multimodal facility, $992,500; and Georgetown University fuel cell program, $123,176.

After reserving $6,529,282 for oversight, the amount available for allocation under the Bus and Bus-Related category is $650,966,074. Table 9 displays the allocation of the FY 2003 Bus and Bus-Related funds by State and project. The FY 2003 Conference Report accompanying the FY 2003 DOT Appropriations Act allocated all of the FY 2003 Bus and Bus-Related funds to specified States or localities for bus and bus-related projects. FTA will fund all designations that comply with the statutory requirements for the program.

Prior year unobligated balances for Bus and Bus-Related allocations in the amount of $515,023,153 remain available for obligation in FY 2003. This includes $503,518,819 in fiscal years 2001 and 2002 unobligated allocations, and $11,504,334 for fiscal years 1998, 1999 and 2000 unobligated allocations extended in the FY 2003 Conference Report. These unobligated amounts are displayed in Table 9A.

Capital Investment Program funds for Bus and Bus-Related projects identified as having been extended in the Conference Report accompanying the FY 2003 DOT Appropriations Act will lapse September 30, 2003. A list of the extended projects and the amount that remains unobligated as of September 30, 2002, is appended to Table 9A for ready reference.

In addition, FY 2003 Conference Report provides clarifications for Bus and Bus-Related projects as follows:

(1) Funding provided to Bevill State Community College may also made available to Jasper, Alabama.

(2) Within the funding provided in FY 2003 to the State of Illinois, $1,000,000 shall be for the refurbishment of the Dan Ryan station.

(3) The conference agreement provides $7,500,000 to Kentucky for bus and bus facilities needs statewide. Of this funding, $4,000,000 shall be provided to southern and eastern Kentucky. The remainder shall be allocated to: Bluegrass Community Action Services, City of Frankfort, Kentucky Foothills Development Council, Community Action Council of Fayette/Lexington, Lexington Red Cross, East Kentucky Independent Service Organization, and Lexington Transit Authority.

(4) Within the funding provided for the state of Michigan, the state should strongly consider requests from Alger County, Charlevoix County, Delta Area Transit Authority, Houghton, Ontonogan County, City of Sault Ste. Marie, and Schoolcraft County.

(5) Within the funds provided for the state of Ohio, the state should strongly consider requests from Kent, and the East Side transit center.

(6) Funding provided for the Sierra Madre Villa intermodal center in fiscal year 2002 shall also be made available to the Los Angeles County Metropolitan Transportation Authority (LACMTA) for bus and bus related facilities in the LACMTA's service area.

(7) Funds provided in fiscal year 2002 for the Fort Worth intermodal center park and ride facility shall be used to facilitate the finish out the intermodal connections into downtown Fort Worth and to enhance the linkage of the TRE with the T's bus operation and park and ride elements occurring at two sites: the ITC (and geographically related areas like the 7th Street parking lot and Alarm Supply Building) and a larger facility at the Texas and Pacific Station.

(8) Funding provided for Wyandotte County buses and Kansas City joblinks in fiscal year 2001 shall be made available to the Unified Government of Wyandotte County/Kansas City.

(9) Funds provided in fiscal year 2001 for Louisiana's Plaquemines Parish Ferry shall also be made available to the New Orleans Regional Planning Commission for vans, buses and related facility construction in Plaquemines, St. Bernard, St. John and St. Charles parishes.

(10) Funds made available in fiscal year 2001 for the Tompkins County intermodal facility shall also be made available for the Ulster County, New York rural bus garage.

(11) Funding provided for the Swampscott buses in fiscal year 2000 may also be available to Lynnfield, Massachusetts to replace buses.

(12) Funds made available in fiscal year 2000 to the Ithaca intermodal transportation center shall also be made available for the Binghamton intermodal transportation center.

X. Job Access and Reverse Commute Program

The FY 2003 DOT Appropriations Act provides $104,317,500, for the Job Access and Reverse Commute (JARC) Program after the transfer of $45 million from JARC to the Capital Investment Program (New Starts) as stipulated in the FY 2003 DOT Appropriations Act and the accompanying Conference Report, and the application of the across-the-board .65 percent reduction. JARC project funding will be published separately from this notice.

The JARC program, established under TEA-21, provides funding for the provision of transportation services designed to increase access to jobs and employment-related activities. Job Access projects are those that transport welfare recipients and low-income individuals, including economically disadvantaged persons with disabilities, in urban, suburban, or rural areas to and from jobs and activities related to their employment. Reverse Commute projects provide transportation services for the general public from urban, suburban, and rural areas to suburban employment opportunities. A total of up to $10,000,000 from the appropriation may be used for Reverse Commute Projects.

XI. Over-the-Road Bus Accessibility Program

The amount made available for the Over-the-Road Bus Accessibility (OTRB) Program by the FY 2003 DOT Appropriations Act is $6,904,825, after application of the across-the-board .65 percent reduction. Of this amount, $5,215,875 is available to providers of intercity fixed-route service, and $1,688,950 is available to other providers of over-the-road bus services, including local fixed-route service, commuter service, and charter and tour service.

The OTRB program authorizes FTA to make grants to operators of over-the-road buses to help finance the incremental capital and training costs of complying with the DOT over-the-road bus accessibility final rule, published on September 28, 1998 (63 FR 51670). Funds will be provided at 90 percent Federal share. FTA conducts a national solicitation of applications and grantees are selected on a competitive basis.

A Federal Register Notice providing program guidance and application procedures for FY 2003 was published in the Federal Register on February 7, 2003. Applications are due by March 28, 2003.

XII. Clean Fuels Formula Program

TEA-21 established the Clean Fuels Formula Grant Program under section 5308 of Title 49 U.S.C. to assist non-attainment and maintenance areas in achieving or maintaining attainment status and to support markets for emerging clean fuel technologies. No funds were provided for this program in the FY 2003 DOT Appropriations Act. For further information contact Nancy Grubb, FTA Office of Resource Management and State Programs, at (202) 366-2053.

XIII. National Planning and Research Program

The amount made available to the National Planning and Research Program by the FY 2003 DOT Appropriations Act is $31,295,250, after application of the across-the-board .65 percent reduction, of that amount $16,442,426 is allocated for specific activities. These allocations are listed in Table 10. For additional information contact Henry Nejako, Program Management Officer, Office of Research, Demonstration and Innovation, at (202) 366-0184.

XIV. Unit Values of Data for Urbanized Area Formula Program, Nonurbanized Area Formula Program, and Fixed Guideway Modernization

The dollar unit values of data derived from the computations of the Urbanized Area Formula Program, the Nonurbanized Area Formula Program, and the Capital Investment Program—Fixed Guideway Modernization apportionments are displayed in Table 14 of this notice. To replicate an area's apportionment, multiply its population, population density, and data from the NTD by the appropriate unit value.

XV. Period of Availability of Funds

The funds apportioned under the Metropolitan Planning Program and the Statewide Planning and Research Program, the Urbanized Area Formula Program, and Fixed Guideway Modernization, in this notice, will remain available to be obligated by FTA to recipients for three fiscal years following FY 2003. Any of these apportioned funds that remain unobligated at the close of business on September 30, 2006, will revert to FTA for reapportionment under the respective program.

Funds apportioned to nonurbanized areas under the Nonurbanized Area Formula Program, including RTAP funds, will remain available for two fiscal years following FY 2003. Any such funds that remain unobligated at the close of business on September 30, 2005, will revert to FTA for reapportionment among the States under the Nonurbanized Area Formula Program. Funds allocated to States under the Elderly and Persons with Disabilities Program in this notice must be obligated by September 30, 2003. Any such funds that remain unobligated as of that date will revert to FTA for reapportionment among the States under the Elderly and Persons with Disabilities Program. The FY 2003 DOT Appropriations Act includes a provision requiring that FY 2003 New Starts and Bus and Bus-Related funds not obligated for their original purpose as of September 30, 2005, shall be made available for other projects under 49 U.S.C. 5309.

JARC funds for projects selected by FTA for funding in FY 2003 will remain available for two fiscal years following FY 2003. Any such funds that remain unobligated at the close of business on September 30, 2005, will revert to FTA for reallocation under the JARC program.

Capital Investment Program funds for New Starts and Bus and Bus-Related projects identified as having been extended in the FY 2003 Conference Report accompanying the FY 2003 DOT Appropriations Act will lapse September 30, 2003.

XVI. Automatic Pre-Award Authority To Incur Project Costs

This information incorporates and elaborates on guidance previously provided in the FTA FY 2002 Apportionments and Allocations Notice found at [http://www.fta.dot.gov/library/legal/federalregister/2002/fr1202a.pdf].

A. Policy

FTA provides blanket or automatic pre-award authority to cover certain program areas described below. This pre-award authority allows grantees to incur project costs prior to grant approval and retain their eligibility for subsequent reimbursement after grant approval. The grantee assumes all risk and is responsible for ensuring that all conditions, which are described below, are met to retain eligibility. This automatic pre-award spending authority permits a grantee to incur costs on an eligible transit capital or planning project without prejudice to possible future Federal participation in the cost of the project or projects. Prior to exercising pre-award authority, grantees must comply with the conditions and Federal requirements outlined in paragraphs B and C immediately below. Failure to do so will render an otherwise eligible project ineligible for FTA financial assistance. In addition, grantees are strongly encouraged to consult with the appropriate FTA regional office if there is any question regarding the eligibility of the project for future FTA funds or the applicability of the conditions and Federal requirements.

Pre-award authority was extended in the June 24, 1998 Federal Register Notice on TEA-21 to all formula funds and flexible funds that will be apportioned during the authorization period of TEA-21, 1998-2003. Pre-award authority for operating and planning projects under the formula grants programs is not limited to the authorization period. Pre-award authority also applies to Capital Investment Bus and Bus-Related allocations identified in this notice. For such section 5309 Capital Investment Bus and Bus-Related projects, the date that costs may be incurred is the date that the appropriation bill in which they are contained is enacted. Pre-award authority does not apply to Capital New Start funds, or to Capital Investment Bus and Bus-Related projects not specified in this or previous notices, except as described in D below.

Extension of Pre-Award Authority Beyond the TEA-21 Authorization Period

Because there is uncertainty in the timing of the FY 2004 appropriations act and/or the surface transportation reauthorization act, a large number of LONPs might be requested for routine, continuing transit projects using anticipated formula funds. FTA, in this Notice, is extending pre-award authority to grantees for project costs to be reimbursed by formula funds and flexible funds that will be appropriated in FY 2004.

In using this pre-award authority for FY 2004 formula funds, grantees are cautioned that reauthorization may result in changes in program structure, administrative requirements, or funding availability. As with all pre-award authority, activities must be conducted in compliance with Federal requirements in order to retain eligibility for future reimbursement.

B. Conditions

Similar to the FTA LONP authority, the conditions under which this authority may be utilized are specified below:

(1) The pre-award authority is not a legal or moral commitment that the project(s) will be approved for FTA assistance or that FTA will obligate Federal funds. Furthermore, it is not a legal or moral commitment that all items undertaken by the applicant will be eligible for inclusion in the project(s).

(2) All FTA statutory, procedural, and contractual requirements must be met.

(3) No action will be taken by the grantee that prejudices the legal and administrative findings that the Federal Transit Administrator must make in order to approve a project.

(4) Local funds expended by the grantee pursuant to and after the date of the pre-award authority will be eligible for credit toward local match or reimbursement if FTA later makes a grant for the project(s) or project amendment(s).

(5) The Federal amount of any future FTA assistance awarded to the grantee for the project will be determined on the basis of the overall scope of activities and the prevailing statutory provisions with respect to the Federal/local match ratio at the time the funds are obligated.

(6) For funds to which the pre-award authority applies, the authority expires with the lapsing of the fiscal year funds.

(7) The Financial Status Report, in TEAM-Web, must indicate the use of pre-award authority.

C. Environmental, Planning, and Other Federal Requirements

FTA emphasizes that all of the Federal grant requirements must be met for the project to remain eligible for Federal funding. Compliance with the National Environmental Policy Act (NEPA) and other environmental laws or executive orders (e.g., protection of parklands, wetlands, and historic properties) must be completed before State or local funds are spent on implementing activities such as final design, construction, and acquisition for a project that is expected to be subsequently funded with FTA funds. Depending on which class the project is included under in FTA environmental regulations, 23 CFR part 771, the grantee may not advance the project beyond planning and preliminary engineering before FTA has issued either a categorical exclusion, refer to 23 CFR part 771.117(d), a finding of no significant impact, or a record of decision. The conformity requirements of the Clean Air Act, 40 CFR part 93, also must be fully met before the project may be advanced into implementation under pre-award authority.

Similarly, the requirement that a project be included in a locally adopted metropolitan transportation improvement program and federally approved statewide transportation improvement program must be followed before the project may be advanced with non-Federal funds under pre-award authority. For planning projects, the project must be included in a locally approved Planning Work Program that has been coordinated with the State. In addition, Federal procurement procedures, as well as the whole range of Federal requirements, must be followed for projects in which Federal funding will be sought in the future. Failure to follow any such requirements could make the project ineligible for Federal funding. In short, this increased administrative flexibility requires a grantee to make certain that no Federal requirements are circumvented through the use of pre-award authority. If a grantee has questions or concerns regarding the environmental requirements, or any other Federal requirements that must be met before incurring costs, it should contact the appropriate regional office.

Before an applicant may incur costs for Bus and Bus-Related Capital projects not listed in this notice or previous notices, it must first obtain a written LONP from FTA. To obtain an LONP, a grantee must submit a written request accompanied by adequate information and justification to the appropriate FTA regional office, as described in section XVII below.

D. Pre-Award Authority for New Starts Projects

1. Preliminary Engineering and Final Design

New Starts projects are required to follow a federally defined project development process. This process includes, among other things, FTA approval of entry of a project into preliminary engineering and approval to enter final design. The grantee request for entry into preliminary engineering and the request for entry into final design document the project's justification and financial criteria, which FTA evaluates as part of its approval process. With FTA approval to enter preliminary engineering, and subsequent approval to enter final design, FTA will automatically extend pre-award authority to that phase of project development.

2. Real Property Acquisition Activities

FTA will extend automatic pre-award authority for the acquisition of real property and real property rights for a New Starts project upon completion of the NEPA review of that project. NEPA review is completed when FTA signs an environmental Record of Decision (ROD) or Finding of No Significant Impact (FONSI), or makes a Categorical Exclusion (CE) determination. With the limitations and caveats described below, real estate acquisition for a New Starts project may now commence upon completion of the NEPA review process.

Most major FTA-assisted projects require the acquisition of residential and/or business properties and the relocation of the occupants. Often real property rights, like railroad track usage rights, are needed. With limited exceptions set forth in FTA's NEPA guidance, the purchase of real property can prejudice the consideration of less damaging alternatives and may not take place until the NEPA process has been completed by FTA's signing of an environmental ROD or FONSI or making a CE determination.

For FTA-assisted projects, any acquisition of real property must be conducted in accordance with the requirements of the Uniform Relocation Assistance and Real Property Acquisition Policies Act (URA) and its implementing regulations, 49 CFR part 24. Compliance with the URA regulations requires substantial lead-time. Properties must be appraised, persons who will be displaced must be educated about their relocation rights, proper housing must be found for displaced residents, and businesses must be relocated in accordance with the URA. In some cases, the remediation of contaminated soils or groundwater, or the removal of underground storage tanks must be dealt with during the acquisition process. Potentially responsible parties of the contamination must be identified and their financial liability negotiated or litigated. Acquisition of railroad right-of-way or usage rights is frequently a negotiated transaction that is fundamental to the transit project and therefore should be negotiated as early as possible after the completion of the NEPA process. Delays in the closing on an acquisition can lead to inconvenience or hardship for residents and businesses that are being displaced. Delays can also lead to increases in property values or in the current owners' financial expectations that prolong negotiated settlements.

To facilitate the acquisition process for New Starts projects, FTA will extend automatic pre-award authority for the acquisition of real property and real property rights with the signing of the environmental ROD or FONSI or the CE determination. This pre-award authority is strictly limited to costs incurred to acquire real property and real property rights and to provide relocation assistance in accordance with the URA regulation. It is limited to the acquisition of real property and real property rights that are explicitly identified in the final EIS, EA or CE determination, as needed for the selected alternative that is the subject of the FTA-signed ROD or FONSI, or the CE determination. It does not cover site preparation, demolition, or any other activity that is not strictly necessary to comply with the URA. At FTA's discretion, these other activities may be covered by a LONP, described in section XVII, below. This pre-award authority does not cover the acquisition of construction equipment or transit vehicles or any other acquisition except that of real property and real property rights.

Grant applicants should use this pre-award authority for real property very discreetly with a clear understanding that it does not constitute a funding commitment by FTA. On occasion, even projects that received a “recommended” rating from FTA under the New Starts regulation, 49 CFR part 611, have not received a Full Funding Grant Agreement from FTA simply because the competition for the limited New Starts funds is so intense.

This pre-award authority for the acquisition of real property and real property rights, in accordance with the URA and after FTA's signing of a ROD or FONSI or making a CE determination, is intended to streamline the project delivery process, to enhance relocation services for residents and businesses, and to avoid the escalation in the cost of real property caused by delays in its acquisition. In granting this pre-award authority, FTA is aware that the risk taken by the grant applicant in acquiring real property without an FTA commitment is somewhat mitigated by the re-sale value of the real property, in the event that FTA funding assistance is not ultimately forthcoming and the project is abandoned.

3. National Environmental Policy Act (NEPA) Activities

The NEPA requires that projects with potentially significant adverse impacts proposed for Federal funding assistance be subjected to a public and interagency review of the need for the project, its environmental and community impacts, and alternatives with potentially fewer damaging effects. Projects for which FTA experience indicates there are no significant impacts are subject to NEPA, but categorically excluded from the more rigorous levels of NEPA review.

FTA regulations, 23 CFR 771.105(e), state that the costs incurred by a grant applicant for the preparation of environmental documents requested by FTA are eligible for FTA assistance. FTA extends automatic pre-award authority for costs incurred to conduct the NEPA environmental review, including historic preservation activities, and to prepare an EIS, EA, CE, or other environmental documents for a proposed New Starts project, effective as of the date of the federal approval of the relevant STIP or STIP amendment that includes any phase of the project. This pre-award authority applies to New Starts funding, as well as other FTA funding sources. This pre-award authority is strictly limited to costs incurred to conduct the NEPA process and prepare environmental and historic preservation documents. It does not cover preliminary engineering activities beyond those necessary for NEPA compliance. As with any pre-award authority, FTA participation in costs incurred is not guaranteed.

This pre-award authority for environmental and historic preservation work for a proposed New Starts project in the FTA-approved STIP is intended to streamline the NEPA process in accordance with TEA-21 Section 1309, “Environmental Streamlining,” by eliminating unnecessary delays in starting up the conceptual engineering and environmental reviews, the public involvement process, and the interagency coordination process for New Starts projects.

4. Other New Starts Activities Requiring LONP

Except as discussed in paragraphs 1-3 above, a grant applicant must obtain a written LONP from FTA before incurring costs for any activity expected to be funded by New Start funds not yet granted. To obtain an LONP, an applicant must submit a written request accompanied by adequate information and justification to the appropriate FTA regional office, as described in section XVII below.

XVII. Letter of no Prejudice (LONP) Policy

A. Policy

LONP authority allows an applicant to incur costs on a project utilizing non-Federal resources with the understanding that the costs incurred subsequent to the issuance of the LONP may be reimbursable as eligible expenses or eligible for credit toward the local match should FTA approve the project at a later date. LONPs are applicable to projects and project activities not covered by automatic pre-award authority. The majority of LONPs will be for Section 5309 New Starts funds not covered under a full funding grant agreement or for Section 5309 Bus and Bus-Related funds not yet appropriated by Congress. At the end of an authorization period, there may be LONPs for formula funds beyond the life of the current authorization.

Under most circumstances the LONP will cover the total project. Under certain circumstances the LONP may be issued for local match only, for example, to permit real estate purchased as it becomes available to be used for match for the project at a later date.

B. Conditions

The following conditions apply to all LONPs.

(1) LONP pre-award authority is not a legal or moral commitment that the project(s) will be approved for FTA assistance or that FTA will obligate Federal funds. Furthermore, it is not a legal or moral commitment that all items undertaken by the applicant will be eligible for inclusion in the project(s).

(2) All FTA, DOT, and other Federal statutory, regulatory, procedural, and contractual requirements must be met.

(3) No action will be taken by the grantee that prejudices the legal and administrative findings that the Federal Transit Administrator must make in order to approve a project.

(4) Local funds expended by the grantee pursuant to and after the date of the LONP will be eligible for credit toward local match or reimbursement if FTA later makes a grant for the project(s) or project amendment(s).

(5) The Federal amount of any future FTA assistance to the grantee for the project will be determined on the basis of the overall scope of activities and the prevailing statutory provisions with respect to the Federal/local match ratio at the time the funds are obligated.

(6) For funds to which this pre-award authority applies, the authority expires with the lapsing of the fiscal year funds.

C. Environmental, Planning, and Other Federal Requirements

As with automatic pre-award authority, FTA emphasizes that all of the Federal grant requirements must be met for the project to remain eligible for Federal funding. Compliance with NEPA and other environmental laws or executive orders (e.g., protection of parklands, wetlands, historic properties) must be completed before State or local funds are spent on implementation activities such as final design, construction, or acquisition for a project expected to be subsequently funded with FTA funds. Depending on which class the project is included under in FTA's environmental regulations, 23 CFR part 771, the grantee may not advance the project beyond planning and preliminary engineering before FTA has approved a CE determination, 23 CFR Section 771.117(d), a finding of no significant impact (FONSI), or an environmental ROD. Because project implementation activities may not be initiated prior to NEPA completion, FTA will normally not issue an LONP for such activities until the NEPA process has been completed with a ROD, FONSI, or CE determination. The conformity requirements of the Clean Air Act, 40 CFR part 93, also must be fully met before the project may be advanced with non-Federal funds.

Similarly, the requirement that a capital project be included in a locally adopted metropolitan transportation improvement program and federally approved statewide transportation improvement program must be followed before the project may be advanced with non-Federal funds. For planning projects, the project must be included in a locally approved Planning Work Program that has been coordinated with the State. In addition, Federal procurement procedures, as well as the whole range of Federal requirements, must be followed for projects in which Federal funding will be sought in the future. Failure to follow any such requirements could make the project ineligible for Federal funding. In short, this pre-award authority requires a grantee to make certain that no Federal requirements are circumvented. If a grantee has questions or concerns regarding the environmental requirements, or any other Federal requirements that must be met before incurring costs, it should contact the appropriate FTA regional office.

D. Request for LONP

Before an applicant may incur costs for a project not covered by automatic pre-award authority, it must first submit a written request for an LONP to the appropriate regional office and obtain written approval.

XVIII. FTA Web Site on the Internet

FTA provides extended customer service by making available transit information on the FTA Web site, including this apportionment notice. Also posted on the Web site are FTA program Circulars: C9030.1C, Urbanized Area Formula Program: Grant Application Instructions, dated October 1, 1998; C9040.1E, Nonurbanized Area Formula Program Guidance and Grant Application Instructions, dated October 1, 1998; C9070.1E, The Elderly and Persons with Disabilities Program Guidance and Application Instructions, dated October 1, 1998; C9300.1A, Capital Program: Grant Application Instructions, dated October 1, 1998; 4220.1D, Third Party Contracting Requirements, dated April 15, 1996; C5010.1C, Grant Management Guidelines, dated October 1, 1998; C8100.1B, Program Guidance and Application Instructions for Metropolitan Planning Program Grants, dated October 25, 1996; C8200.1, Program Guidance and Application Instructions for State Planning and Research Program Grants, dated December 27, 2001; and C5200.1A, Full Funding Grant Agreement Guidance, dated December 5, 2002. The FY 2003 Annual List of Certifications and Assurances is also posted on the FTA Web site. Other documents on the FTA Web site of particular interest to public transit providers and users include the annual Statistical Summaries of FTA Grant Assistance Programs, and the National Transit Database Profiles.

FTA circulars are listed at [http://www.fta.dot.gov/library/admin/checklist/circulars.htm]. Other guidance of interest to Grantees can be found at: [http://www.fta.dot.gov/grantees/index.html]. Grantees should check the FTA Web site frequently to keep up to date on new postings.

XIX. FTA Fiscal Year 2003 Annual List of Certifications and Assurances

On October 23, 2002, FTA published in the Federal Register the list and accompanying text of all Certifications and Assurances required of recipients of FTA assistance in Fiscal Year 2003. See, 67 FR 65171 et seq. The full text of the Fiscal Year 2003 Certifications and Assurances is also accessible both on FTA's Internet Web site at [http://www.fta.dot.gov/library/legal/ca.htm] and FTA's TEAM Web site for recipients, TEAM-Web at [http://ftateamweb.fta.dot.gov/static/2003-CERTS-TEAM.doc]. In compliance with 49 U.S.C. 5323(n), which requires a simultaneous publication of a list of the Certifications and Assurances and FTA's annual notice of Apportionments, recipients are directed to the October 23, 2002 notice at 67 FR 65171 et seq. for the list and text of FTA's Certifications and Assurances and to FTA's Web sites displaying those Certifications and Assurances. Any questions regarding this document may be addressed to the appropriate Regional Office.

As in previous years, the grant applicant should certify electronically. Under certain circumstances the applicant may enter its Personal Identification Number (PIN) in lieu of an electronic signature provided by its attorney, provided the applicant has on file the current affirmation of its attorney in writing dated this Federal fiscal year. The applicant is advised to contact the appropriate FTA Regional Office for electronic procedure information.

XX. Grant Application Procedures

All applications for FTA funds should be submitted to the appropriate FTA Regional Office. FTA utilizes TEAM-Web, an Internet accessible electronic grant application system, and all applications should be filed electronically. FTA has provided exceptions to the requirement for electronic filing of applications for certain new, non-traditional grantees in the Job Access and Reverse Commute and Over-the-Road Bus Accessibility programs as well as to a few grantees that have not successfully connected to or accessed TEAM-Web.

FTA is committed to processing grants within 60 days of receipt of a completed application by the appropriate Regional Office. In order for an application to be considered complete, it must meet the following requirements: All projects must be contained in an approved STIP (when required), all environmental findings must be made by FTA, there must be an adequate project description, local share must be secure, any flexible funds included in the budget must be secured, all required civil rights submissions must be current and certifications and assurances must be properly submitted. Once an application is complete, the FTA Regional Office will assign a project number and, when required, submit the application to the Department of Labor for a certification under section 5333(b). The FTA circulars contain more information regarding application contents and complete applications. State applicants for section 5311 are reminded that they must certify to DOL that all subrecipients have agreed to the standard labor protection warranty for section 5311 and provide DOL with other related information for each grant.

This notice and all program guidance circulars may be accessed via the FTA Web site. Copies of circulars are available from FTA Regional Offices as well.

Issued on: March 5, 2003.
Jennifer L. Dorn.
Administrator.

BILLING CODE 4910-57-P

[FR Doc. 03-5707 Filed 3-11-03; 8:45 am]

BILLING CODE 4910-57-C